DEPARTMENT OF STATE

[Public Notice 6771]

30-Day Notice of Proposed Information Collection: DS-4076 Commodity Jurisdiction (CJ) Determination Form; OMB Control Number 1405-0163

ACTION: Notice of request for public comment and submission to OMB of proposed collection of information.

SUMMARY: The Department of State has submitted the following information collection to the Office of Management and Budget (OMB) for approval in accordance with the Paperwork Reduction Act of 1995.

Title of Information Collection: DS-4076 Commodity Jurisdiction (CJ) Determination Form.

OMB Control Number: 1405-0163.

Type of Request: Extension of currently approved collection.

Originating Office: Bureau of Political Military Affairs, Directorate of Defense Trade Controls, PM/DDTC.

Form Number: DS-4076.

Respondents: Business organizations.

Estimated Number of Respondents: 425 (total).

Estimated Number of Responses: 465 (per year).

Average Hours per Response: 10 hours.

Total Estimated Burden: 4,650 hours (per year).

Frequency: On Occasion.

Obligation to Respond: Voluntary.

DATES: Submit comments to the Office of Management and Budget (OMB) for up to 30 days from September 28, 2009.

ADDRESSES: Direct comments to the Department of State Desk Officer in the Office of Information and Regulatory Affairs at the Office of Management and Budget (OMB). You may submit comments by any of the following methods:

E-mail: oira_submission@omb.eop.gov. You must include the DS form number, information collection title, and OMB control number in the subject line of your message.

Fax: 202-395-5806. Attention: Desk Officer for Department of State.

FOR FURTHER INFORMATION CONTACT: You may obtain copies of the proposed information collection and supporting documents from Mary F. Sweeney, PM/DDTC, SA-1, 12th Floor, Directorate of Defense Trade Controls, Bureau of Political Military Affairs, U.S. Department of State, Washington, DC 20522-0112, who may be reached via phone at (202) 663-2865, or via e-mail at sweeneymf@state.gov.

SUPPLEMENTARY INFORMATION: We are soliciting public comments to permit the Department to:

Evaluate whether the proposed collection of information is necessary to properly perform our functions.

Evaluate the accuracy of our estimate of the burden of the proposed collection, including the validity of the methodology and assumptions used.

Enhance the quality, utility, and clarity of the information to be collected.

Minimize the reporting burden on those who are to respond, including the use of automated collection techniques or other forms of technology.

Abstract of proposed collection: The information will be used to evaluate whether or not a particular defense article or defense service is covered by the U.S. Munitions List; to remove a defense article from the U.S. Munitions List; or to reconsider a previous commodity jurisdiction determination.

Methodology: This information collection will be collected electronically.

Dated: September 17, 2009.
Robert S. Kovac,
Acting Deputy Assistant Secretary for Defense Trade, Bureau of Political-Military Affairs, U.S. Department of State.

[FR Doc. E9-23324 Filed 9-25-09; 8:45 am]

BILLING CODE 4710-25-P